DEPARTMENT OF ENERGY

Federal Energy Regulatory Commission

Combined Notice of Filings #3

Take notice that the Commission received the following electric rate filings:

Docket Numbers: ER10-2135-017; ER10-2124-026.

Applicants: Spring Canyon Energy LLC, Spindle Hill Energy LLC.

Description: Notice of Change in Status of Spindle Hill Energy LLC, et al.

Filed Date: 10/31/23.

Accession Number: 20231031-5246.

Comment Date: 5 p.m. ET 11/21/23.

Docket Numbers: ER10-2881-041; ER10-2882-041; ER10-2883-039; ER10-2884-039; ER16-2509-010; ER17-2400-011; ER17-2401-011; ER17-2403-011; ER17-2404-011.

Applicants: SP Sandhills Solar, LLC, SP Pawpaw Solar, LLC, SP Decatur Parkway Solar, LLC, SP Butler Solar, LLC, Rutherford Farm, LLC, Georgia Power Company, Mississippi Power Company, Southern Power Company, Alabama Power Company.

Description: Notice of Non-Material Change in Status of Alabama Power Company, et al.

Filed Date: 10/31/23.

Accession Number: 20231031-5241.

Comment Date: 5 p.m. ET 11/21/23.

Docket Numbers: ER10-3050-013; ER10-3053-013.

Applicants: Whitewater Hill Wind Partners, LLC, Cabazon Wind Partners, LLC.

Description: Notice of Non-Material Change in Status of Cabazon Wind Partners, LLC, et al.

Filed Date: 10/31/23.

Accession Number: 20231031-5227.

Comment Date: 5 p.m. ET 11/21/23.

Docket Numbers: ER21-9-005; ER21-86-005; ER21-88-005.

Applicants: Orange County Energy Storage 3 LLC, Orange County Energy Storage 2 LLC, Henrietta D Energy Storage LLC.

Description: Notice of Non-Material Change in Status of Henrietta D Energy Storage LLC, et al.

Filed Date: 10/31/23.

Accession Number: 20231031-5248.

Comment Date: 5 p.m. ET 11/21/23.

Docket Numbers: ER21-136-005.

Applicants: Flat Ridge 3 Wind Energy, LLC.

Description: Notice of Change in Status of Flat Ridge 3 Wind Energy, LLC.

Filed Date: 10/31/23.

Accession Number: 20231031-5243.

Comment Date: 5 p.m. ET 11/21/23.

Docket Numbers: ER21-330-004.

Applicants: Specialty Products US, LLC.

Description: Notice of Change in Status of Specialty Products US, LLC.

Filed Date: 10/31/23.

Accession Number: 20231031-5245.

Comment Date: 5 p.m. ET 11/21/23.

Docket Numbers: ER21-2137-009.

Applicants: IR Energy Management LLC.

Description: Notice of Change in Status of IR Energy Management LLC.

Filed Date: 10/31/23.

Accession Number: 20231031-5225.

Comment Date: 5 p.m. ET 11/21/23.

Docket Numbers: ER24-269-000.

Applicants: NSTAR Electric Company.

Description: Initial rate filing: NSTAR-HQUS Transfer Agreement (ENE Use Rights) to be effective 11/26/2023.

Filed Date: 10/31/23.

Accession Number: 20231031-5204.

Comment Date: 5 p.m. ET 11/21/23.

Docket Numbers: ER24-270-000.

Applicants: Southwest Power Pool, Inc.

Description: § 205(d) Rate Filing: Revisions to Attachment AE to Clarify Resource/Load Aggregation to be effective 1/3/2024.

Filed Date: 10/31/23.

Accession Number: 20231031-5219.

Comment Date: 5 p.m. ET 11/21/23.

Docket Numbers: ER24-271-000.

Applicants: Southwestern Public Service Company, Southwest Power Pool, Inc.

Description: § 205(d) Rate Filing: Southwestern Public Service Company submits tariff filing per 35.13(a)(2)(iii): SPS Formula Rate Revisions to Incorporate Changes Accepted in ER23-2845 to be effective 1/1/2023.

Filed Date: 10/31/23.

Accession Number: 20231031-5240.

Comment Date: 5 p.m. ET 11/21/23.

Docket Numbers: ER24-272-000.

Applicants: ISO New England Inc., The United Illuminating Company.

Description: § 205(d) Rate Filing: ISO New England Inc. submits tariff filing per 35.13(a)(2)(iii): UI; Req for Approval of Updated Depreciation Rates & Rev. to Append D of Att F to be effective 9/1/2023.

Filed Date: 10/31/23.

Accession Number: 20231031-5244.

Comment Date: 5 p.m. ET 11/21/23.

Docket Numbers: ER24-273-000.

Applicants: Goleta Energy Storage, LLC.

Description: Compliance filing: Notice of Non-Material Change in Status and Revised Market-Based Rate Tariff to be effective 11/1/2023.

Filed Date: 10/31/23.

Accession Number: 20231031-5249.

Comment Date: 5 p.m. ET 11/21/23.

Take notice that the Commission received the following electric securities filings:

Docket Numbers: ES23-14-000.

Applicants: Transource Maryland, LLC, Transource Missouri, LLC, Transource Oklahoma, LLC, Transource Pennsylvania, LLC, Transource West Virginia, LLC.

Description: Report of Securities Issued of Transource Pennsylvania, LLC.

Filed Date: 10/31/23.

Accession Number: 20231031-5222.

Comment Date: 5 p.m. ET 11/21/23.

Take notice that the Commission received the following electric reliability filings

Docket Numbers: RD24-1-000.

Applicants: North American Electric Reliability Corporation.

Description: North American Electric Reliability Corporation submits Petition for Approval of Proposed Reliability Standards EOP-011-4 and TOP-002-5 and Request for Expedited Action.

Filed Date: 10/30/23.

Accession Number: 20231030-5285.

Comment Date: 5 p.m. ET 11/30/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 31, 2023.
Debbie-Anne A. Reese,
Deputy Secretary.

[FR Doc. 2023-24486 Filed 11-3-23; 8:45 am]

BILLING CODE 6717-01-P